DEPARTMENT OF TRANSPORTATION

Federal Aviation Administration

14 CFR Part 71

[Docket No. FAA-2019-0678; Airspace Docket No. 18-AWP-27]

RIN 2120-AA66

Amendment of Class D and Class E Airspace; Concord, CA

AGENCY: Federal Aviation Administration (FAA), DOT.

ACTION: Final rule.

SUMMARY: This action amends the Class D airspace and establishes Class E airspace extending upward from 700 feet above the surface of the earth at Buchanan Field, Concord, CA. This action also removes the Concord VOR/DME and the city listed before the airport name in the legal description header information.

DATES: Effective 0901 UTC, May 21, 2020. The Director of the Federal Register approves this incorporation by reference action under Title 1 Code of Federal Regulations part 51, subject to the annual revision of FAA Order 7400.11 and publication of conforming amendments.

ADDRESSES: FAA Order 7400.11D, Airspace Designations and Reporting Points, and subsequent amendments can be viewed online at https://www.faa.gov//air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11D at NARA, email fedreg.legal@nara.gov or go to https://www.archives.gov/federal-register/cfr/ibr-locations.html.

FOR FURTHER INFORMATION CONTACT: Matthew Van Der Wal, Federal Aviation Administration, Western Service Center, Operations Support Group, 2200 S. 216th Street, Des Moines, WA 98198; telephone (206) 231-3695.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it would amend Class D and establish Class E airspace at Buchanan Field, Concord, CA, to ensure the safety and management of Instrument Flight Rules (IFR) operations at the airport.

History

The FAA published a notice of proposed rulemaking in the Federal Register (84 FR 56390; October 22, 2019) for Docket No. FAA-2019-0678 to amend Class D and Class E airspace at Buchanan Field, Concord, CA. Interested parties were invited to participate in this rulemaking effort by submitting written comments on the proposal to the FAA. Seven comments were received.

Three comments contained only the Docket number, the airspace docket number and the FAA's RIN number with no additional text or comment.

Two comments questioned why the airspace is being established, since the San Francisco Sectional already appears to contain the proposed airspace within an existing Class E airspace area extending upward from 700 feet above the surface. This new airspace area is being established for Buchanan Field to ensure the airport has independent Class E airspace to contain arriving IFR aircraft when descending below 1,500 feet above the surface. Additionally, one commenter stated that they could not find the proposed Class E area in FAA Order 7400.11D. This action establishes the Class E airspace for the airport and the airspace will be published in the next iteration of FAA Order 7400.11 which will be effective September 15, 2020.

One comment asked how this change would affect local pilot's knowledge of the local area. This change will be charted on subsequent editions of the San Francisco Sectional. This respondent also asked about ADSB equipage and access to airports in the area, below the SFO Class B veil. This airspace action does not impact the equipment requirements for aircraft operations within a Class B veil.

One comment discussed IFR operations and airspace but did not provide a specific concern or support for the proposal.

Class D and Class E5 airspace designations are published in paragraphs 5000 and 6005, respectively, of FAA Order 7400.11D, dated August 8, 2019, and effective September 15, 2019, which is incorporated by reference in 14 CFR 71.1. The Class E airspace designation listed in this document will be published subsequently in the Order.

Availability and Summary of Documents for Incorporation by Reference

This document amends FAA Order 7400.11D, Airspace Designations and Reporting Points, dated August 8, 2019, and effective September 15, 2019. FAA Order 7400.11D is publicly available as listed in the ADDRESSES section of this document. FAA Order 7400.11D lists Class A, B, C, D, and E airspace areas, air traffic service routes, and reporting points.

The Rule

This amendment to Title 14 Code of Federal Regulations (14 CFR) part 71 modifies Class D airspace at Buchanan Field extending upward from the surface to and including 2,500 feet MSL within a 2.6-mile radius of the airport from the 205° bearing from the airport clockwise to the 314° bearing, thence extending to a 4.1-mile radius of airport from the 314° bearing from the airport clockwise to the 205° bearing of Buchanan Field. This Class D airspace area is effective during the specific dates and times established in advance by a Notice to Airmen. The effective date and time will thereafter be continuously published in the Chart Supplement.

Additionally, this action establishes Class E5 airspace extending upward from 700 feet above the surface within a 4.1-mile radius of Buchanan Field and within 2.5 miles each side of the 009° bearing from the airport extending from the 4.1-mile radius to 11 miles north of the airport, and within 2.5 miles each side of the 023° bearing from the airport extending from the 4.1-mile radius to 11 miles northeast of Buchanan Field.

Further, this action removes the Concord VOR/DME and the associated extensions from the legal description to simplify how the airspace is described.

Lastly, this action removes the city listed before the airport name in the legal description header information to comply with airspace policy guidance.

Class D and Class E5 airspace designations are published in paragraphs 5000, and 6005, respectively, of FAA Order 7400.11D, dated August 8, 2019, and effective September 15, 2019, which is incorporated by reference in 14 CFR 71.1. The Class D and Class E airspace designations listed in this document will be published subsequently in the Order. FAA Order 7400.11, Airspace Designations and Reporting Points, is published yearly and effective on September 15.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, would not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order 7400.11D, Airspace Designations and Reporting Points, dated August 8, 2019, and effective September 15, 2019, is amended as follows:

Paragraph 5000 Class D Airspace.

* * * * *

AWP CA D Concord, CA

Buchanan Field, CA

(Lat. 37°59′23″ N, long. 122°03′25″ W)

That airspace extending upward from the surface to and including 2,500 feet MSL within a 2.6-mile radius of the airport from the 205° bearing from the airport clockwise to the 314° bearing, thence extending to a 4.1-mile radius of the airport from the 314° bearing clockwise to the 205° bearing from Buchanan Field. This Class D airspace area is effective during the specific dates and times established in advance by a Notice to Airmen. The effective date and time will thereafter be continuously published in the Chart Supplement.

Paragraph 6005 Class E Airspace Areas Extending Upward From 700 Feet or More Above the Surface of the Earth.

* * * * *

AWP CA E5 Concord, CA

Buchanan Field, CA

(Lat. 37°59′23″ N, long. 122°03′25″ W)

That airspace extending upward from 700 feet above the surface within a 4.1-mile radius of Buchanan Field and within 2.5 miles each side of the 009° bearing from the airport extending from the 4.1-mile radius to 11 miles north of the airport and within 2.5 miles each side of the 023° bearing from the airport extending from the 4.1-mile radius to 11 miles northeast of Buchanan Field.

Issued in Seattle, Washington, on February 3, 2020.
Byron Chew,
Group Manager, Western Service Center, Operations Support Group.

[FR Doc. 2020-02448 Filed 2-13-20; 8:45 am]

BILLING CODE 4910-13-P